DEPARTMENT OF TRANSPORTATION

Federal Motor Carrier Safety Administration

[Docket No. FMCSA-2022-0002]

Agency Information Collection Activities; Emergency Approval of a New Information Collection Request: Apprenticeship Pilot Program

AGENCY: Federal Motor Carrier Safety Administration (FMCSA), Department of Transportation (DOT).

ACTION: Notice of request for emergency OMB approval.

SUMMARY: In compliance with the Paperwork Reduction Act (PRA) of 1995, this notice announces that the new Information Collection Request (ICR) discussed below has been forwarded to the Office of Management and Budget (OMB) for review and emergency approval. FMCSA requests that OMB approve this collection by January 13, 2021.

DATES: Comments must be submitted on or before January 12, 2022.

ADDRESSES: Written comments and recommendations for the proposed information collection should be sent within by January 12, 2022 to www.reginfo.gov/public/do/PRAMain. All comments received are part of the public record. Comments will generally be posted without change. Upon receiving the requested emergency approval by OMB, FMCSA will follow the normal PRA procedures to renew the information collection at its expiration date.

FOR FURTHER INFORMATION CONTACT: Nicole Michel, Mathematical Statistician, Research Division, Department of Transportation, FMCSA, West Building, 6th Floor, 1200 New Jersey Avenue SE, Washington, DC 20590-0001; 202-366-4354; Nicole.michel@dot.gov.

SUPPLEMENTARY INFORMATION:

Title: Apprenticeship Pilot Program.

OMB Control Number: N/A; this is a new ICR.

Type of Request: Request for emergency approval of a new information collection.

Respondents: Motor carriers; drivers.

Estimated Total Respondents: 44,945 total (4,500 motor carriers and 40,445 commercial motor vehicle (CMV) drivers); 16,482 annually (3,000 carriers and 13,482 CMV drivers).

Estimated Total Responses: Applications: 44,945 total, or 14,982 annually; Data collection for participating carriers: 486,000 total, or 162,000 annually.

Estimated Burden Hours: 571,047 total, or 190,349 annually (Motor carriers: 557,250 hours total, or 185,750 hours annually; Drivers: 13,797 hours total, or 4,599 hours annually).

Estimated Burden per Response: 20 minutes per response for carrier, apprentice, and experienced driver application forms; 15 minutes per response for safety benchmark certifications; 60 minutes per month per driver for monthly driving and safety data; 90 minutes per month for miscellaneous data submission.

Frequency: Once for carrier, apprentice, and experienced driver application forms; twice for safety benchmark certifications; monthly per number of participating drivers for driving and safety data; and monthly for miscellaneous monthly data.

Background: Current regulations on driver qualifications (49 CFR part 391.11(b)(1)) state that a driver must be 21 years of age or older to operate a CMV in interstate commerce. Currently, drivers under the age of 21 may operate CMVs only in intrastate commerce subject to State laws and regulations.

Section 23022 of the Infrastructure Investment and Jobs Act (IIJA), requires the Secretary of Transportation to conduct a commercial driver Apprenticeship Pilot Program. An “apprentice” is defined as a person under the age of 21 who holds a commercial driver's license (CDL). Under this program, these apprentices will complete two probationary periods, during which they may operate in interstate commerce only under the supervision of an experienced driver in the passenger seat. An experienced driver is defined in Section 23022 as a driver who is not younger than 26 years old, who has held a CDL and been employed for at least the past 2 years, and who has at least 5 years of interstate CMV experience and meets the other safety criteria defined in the IIJA.

The first probationary period must include at least 120-hours of on duty time, of which at least 80 hours are driving time in a CMV. To complete this probationary period, the employer must determine competency in:

1. Interstate, city traffic, rural 2-lane, and evening driving;

2. Safety awareness;

3. Speed and space management;

4. Lane control;

5. Mirror scanning;

6. Right and left turns; and

7. Logging and complying with rules relating to hours of service.

The second probationary period must include at least 280 hours of on-duty time, including not less than 160 hours driving time in a CMV. To complete this probationary period, the employer must determine competency in:

1. Backing and maneuvering in close quarters;

2. Pre-trip inspections;

3. Fueling procedures;

4. Weighing loads, weight distribution, and sliding tandems;

5. Coupling and uncoupling procedures; and

6. Trip planning, truck routes, map reading, navigation, and permits.

After completion of the second probationary period the apprentice may begin operating CMVs in interstate commerce unaccompanied by an experienced driver.

In addition to data regarding successful completion of the probationary periods, the IIJA requires data collection for data relating to any incident in which a participating apprentice is involved as well as other data relating to the safety of apprentices. Additional data will include crash data (incident reports, police reports, insurance reports), inspection data, citation data, safety event data (as recorded by all safety systems installed on vehicles, to include advanced driver assistance systems, automatic emergency braking systems, onboard monitoring systems, and forward-facing and in-cab video systems) as well as exposure data (record of duty status logs, on-duty time, driving time, and time spent away from home terminal). This data will be submitted monthly through participating motor carriers.

The data collected will be used to report on the following items, as required by section 23022:

1. The findings and conclusions on the ability of technologies or training provided to apprentices as part of the pilot program to successfully improve safety;

2. An analysis of the safety record of participating apprentices as compared to other CMV drivers;

3. The number of drivers that discontinued participation in the apprenticeship program before completion;

4. A comparison of the safety records of participating drivers before, during, and after each probationary period; and

5. A comparison of each participating driver's average on-duty time, driving time, and time spent away from home terminal before, during, and after each probationary period.

FMCSA will monitor the monthly data being reported by the motor carriers and will identify drivers or carriers that may pose a risk to public safety. While removing unsafe drivers or carriers may bias the dataset, it is a necessary feature for FMCSA to comply with 49 CFR 381.505, which requires development of a monitoring plan to ensure adequate safeguards to protect the health and safety of pilot program participants and the general public. Knowing that a driver or carrier was removed from the pilot program for safety reasons will help FMCSA minimize bias in the final data analysis.

FMCSA and the Department of Labor's Employment and Training Agency (DOL/ETA) will be partnering in the implementation of the Safe Driver Apprenticeship Pilot Program. All motor carriers who are approved for the program by FMCSA will also be required to become Registered Apprenticeships (RAs) under 29 CFR part 29 before they can submit information on their experienced drivers and apprentices. The information collection burden for the DOL/ETA RA Program can be found in approved ICR 1205-0223.

The statutory mandate for this pilot program is contained in Section 23022 of the Infrastructure Investment and Jobs Act. FMCSA's regulatory authority for initiation of a pilot program is 49 CFR 381.400. The Apprentice Pilot Program supports the USDOT strategic goal of economic strength while maintaining USDOT and FMCSA's commitment to safety.

Public Comments Invited: You are asked to comment on any aspect of this information collection, including: (1) Whether the proposed collection is necessary for FMCSA to perform its functions; (2) the accuracy of the estimated burden; (3) ways for FMCSA to enhance the quality, usefulness, and clarity of the collected information; and (4) ways that the burden could be minimized without reducing the quality of the collected information.

Issued under the authority delegated in 49 CFR 1.87.
Thomas P. Keane,
Associate Administrator, Office of Research and Registration.

[FR Doc. 2022-00063 Filed 1-6-22; 8:45 am]

BILLING CODE 4910-EX-P